DEPARTMENT OF JUSTICE

Antitrust Division

Notice Pursuant to the National Cooperative Research and Production Act of 1993—IMS Global Learning Consortium, Inc.

Notice is hereby given that, on July 10, 2017, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Brigham Young University, Provo, UT; California State University, Office of the Chancellor, Long Beach, CA; Cerego, San Francisco, CA; Data Recognition Corp., Maple Grove, MN; Digitalme, Leeds, UNITED KINGDOM; Indiana University, Bloomington, IN; Learning Machine, Dallas, TX; School District of Philadelphia, Philadelphia, PA; Seattle Public Schools, Seattle, WA; South Carolina Department of Education, Columbia, SC; and Galena Park Independent School District, Houston, TX, have been added as parties to this venture.

Also, Intersective, Sydney, AUSTRALIA; Intel, Santa Clara, CA; and Utah Valley University, Orem, UT, have withdrawn as parties to this venture.

In addition, an existing member, CODE-OUJ, has changed its name to Online Education Center of OUJ, Chiba, JAPAN.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on April 19, 2017. A notice was published in the Federal Register pursuant to Section 6(b) of the Act on May 2, 2017 (82 FR 20488).

Patricia A. Brink,
Director of Civil Enforcement, Antitrust Division.

[FR Doc. 2017-15583 Filed 7-24-17; 8:45 a.m.]

BILLING CODE P